NUCLEAR REGULATORY COMMISSION

[Docket Nos. 50-003, 50-247, 50-286, 72-51, 50-333, 72-12, 50-220, 50-410, 72-1036, 50-244, 72-67, 50-275, 50-323, 72-26, 50-361, 50-362, and 72-41; EA-14-137, EA-14-135, EA-14-136, EA-14-138, EA-14-139, EA-14-134, and EA-14-140; NRC-2016-0007]

In the Matter of Entergy Nuclear Operations, Inc., Indian Point Nuclear Generating Unit Nos. 1, 2, and 3, and James A. Fitzpatrick Nuclear Power Plant; Exelon Generation Company, LLC, Nine Mile Point Nuclear Station, Units 1 and 2, and R.E. Ginna Nuclear Power Plant; Pacific Gas and Electric Company, Diablo Canyon Power Plant, Units 1 and 2; and Southern California Edison Company, San Onofre Nuclear Generating Station, Units 2 and 3, including Independent Spent Fuel Storage Installations for All Facilities; Correction

AGENCY: Nuclear Regulatory Commission.

ACTION: Confirmatory order; correction.

SUMMARY: The U.S. Nuclear Regulatory Commission (NRC) is correcting the attachment to a notice that was published in the Federal Register (FR) on January 15, 2016, regarding authorizing the licensees to transfer, receive, possess, transport, import, and use certain firearms and large-capacity ammunition feeding devices not previously permitted to be owned or possessed under Commission authority, notwithstanding certain local, State, or Federal firearms laws, including regulations that prohibit such actions, as reflected in the confirmatory orders for the nuclear plant facilities listed above. This action is necessary to correct an order number.

DATES: The correction is effective January 25, 2016.

ADDRESSES: Please refer to Docket ID NRC-2016-0007 when contacting the NRC about the availability of information regarding this document. You may obtain publicly-available information related to this document using any of the following methods:

• Federal Rulemaking Web site: Go to http://www.regulations.gov and search for Docket ID NRC-2016-0007. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. Orders EA-14-135, EA-14-136, EA-14-137, EA-14-138, EA-14-139, EA-14-134, and EA-14-140 are available in ADAMS under Accession Nos. ML15176A264, ML15176A028, ML15176A306, ML15176A256, ML15174A020, and ML15174A102, respectively.

• NRC's PDR: You may examine and purchase copies of public documents at the NRC's PDR, Room O1-F21, One White Flint North, 11555 Rockville Pike, Rockville, Maryland 20852.

FOR FURTHER INFORMATION CONTACT: Siva P. Lingam, Office of Nuclear Reactor Regulation, U.S. Nuclear Regulatory Commission, Washington, DC 20555-0001; telephone: 301-415-1564, email: Siva.Lingam@nrc.gov.

SUPPLEMENTARY INFORMATION: In the FR on January 15, 2016, in FR Doc. 2016-00720, on page 2256, in the third column, in the title to the confirmatory order for Diablo Canyon Nuclear Power Plant, the order number “EA-14-140” is corrected to read order number “EA-14-134.”

Dated at Rockville, Maryland, this 19th day of January 2016.
For the Nuclear Regulatory Commission.
Cindy Bladey,
Branch Chief, Rules, Announcements and Directives Branch, Division of Administrative Services, Office of Administration.

[FR Doc. 2016-01420 Filed 1-22-16; 8:45 am]

BILLING CODE 7590-01-P